DEPARTMENT OF HEALTH AND HUMAN SERVICES

Office of the Secretary

[Document Identifier: 0955-0009-60D]

Agency Information Collection Activities; Proposed Collection; Public Comment Request

AGENCY: Office of the Secretary, HHS.

ACTION: Notice.

SUMMARY: In compliance with the Paperwork Reduction Act of 1995, the Office of the Secretary (OS), Department of Health and Human Services, announces plans to submit an Information Collection Request (ICR), described below, to the Office of Management and Budget (OMB). The ICR is for extending the use of the approved information collection assigned OMB control number 0955-0009 which expires on May 31, 2017. Prior to submitting the ICR to OMB, OS seeks comments from the public regarding the burden estimate, below, or any other aspect of the ICR.

DATES: Comments on the ICR must be received on or before May 22, 2017.

ADDRESSES: Submit your comments to Information.CollectionClearance@hhs.gov or by calling (202) 690-5683.

SUPPLEMENTARY INFORMATION: When submitting comments or requesting information, please include the document identifier 0955-0009-60D for reference.

Information Collection Request Title: Customer Relationship Management (CRM) Tool.

OMB No.: 0955-0009.

Abstract: The Customer Relationship Management (CRM) application is a nimble business intelligence tool being used by more than 1,500 users at ONC partner organizations and grantees. The CRM collects data from a large number of users throughout the United States who are “on the ground” helping healthcare providers adopt and optimize their IT systems, it provides near real-time data about the adoption, utilization, and meaningful use of EHR technology. Approximately half of all Primary Care Providers in the nation are represented in the CRM tool; data points include provider location, credential, specialty, whether live on an EHR and what system, whether they've reached MU, the time between these, and narrative barriers experienced by many of these.

Need and Proposed Use of the Information: The CRM tool supplements and is regularly merged with other data sources both within and outside of HHS and tracks program performance and progress towards milestones. Combined with ONC's internal analytical capacity, this data provides feedback that goes beyond anecdotal evidence and can be turned into tangible lessons learned that are used to focus policy and program efforts and ultimately achieve concrete outcomes.

Likely Respondents: HITECH Grantees.

The total annual burden hours estimated for this ICR are summarized in the table below.

Total Estimated Annualized Burden—Hours
Form name | Number of respondents | Number of responses per respondent | Average burden per response (in hours) | Total burden hours
CRM Tool—Workforce | 7 | 125 | 1.5 | 1,313
CRM Tool—Advance Interoperable HIE Program | 24 | 24 | 1.5 | 864
CRM Tool—CHP/Academy Health | 1 | 12 | 1.5 | 18
Total | 32 | 161 | 4.5 | 2,195

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst. Information Collection Clearance Officer.

[FR Doc. 2017-05627 Filed 3-21-17; 8:45 am]

BILLING CODE 4150-45-P